DEPARTMENT OF HEALTH AND HUMAN SERVICES

Centers for Disease Control and Prevention

[30Day-10-09BQ]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Examining In-vehicle Exposures to Air Pollutants and Corresponding Health Outcomes of Commuters—New—National Center for Environmental Health, (NCEH) and Agency for Toxic Substances and Disease Registry (ATSDR), Centers for Disease Control and Prevention, (CDC).

Background and Brief Description

Numerous studies have found associations between ambient fine particulate matter (PM2.5) and adverse cardiovascular outcomes. Several recent epidemiologic studies suggest that vehicle-related emissions, in particular, may be linked to many of the these adverse effects and that specific sub-populations may be more susceptible to health risks due to their enhanced exposures to vehicle-related PM2.5 sources. Commuters are a potentially susceptible, yet poorly characterized, sub-population. Importantly, recent epidemiologic studies indicate that specific sub-groups, including those with asthma, may be at risk to cardio respiratory health effects due to their pre-existing health condition. A more complete understanding of in-vehicle exposures for the commuter population, especially those with asthma, is therefore becoming increasingly necessary as commuting durations and roadway congestion have steadily increased throughout the U.S. during the last 20 years. The National Center for Environmental Health (NCEH), Centers for Disease Control and Prevention (CDC) will conduct this study to characterize in-vehicle exposures to traffic-related air pollutants among commuters, with and without asthma, and any health impacts that these exposures may have on the commuter.

A total of 40 participants (20 adults with physician-diagnosed asthma and 20 healthy adults) living in the Atlanta metro area will be recruited for participation in this study. Participants will be excluded if they meet specific criteria including: ever being diagnosed with severe asthma, ever suffering a myocardial infarction, smoking tobacco products, or ever being diagnosed with a pulmonary disease such as emphysema, chronic obstructive pulmonary disorder (COPD), or any type of lung cancer, will be excluded.

Prior to their scheduled commute, participants will complete a one-time baseline questionnaire to assess medical history and general exposures. Additionally, a short symptom diary recording any respiratory symptoms will be completed by the participant prior to the commute and health measurements for lung function, lung inflammatory markers, heart rate, and biomarkers of systemic inflammation will be conducted by a trained field technician. In-vehicle exposures to particulate matter and other air pollutants will then be measured for all participants during their commute. After the commute, the symptom diary and health measurements will be conducted again to assess any potential changes in respiratory and cardiovascular health effects. Each participant will conduct the commute two times during the study year. The information learned from the health measurements and diary entries before and after the commute will be important in better understanding the potential acute health impacts associated with exposures to in-vehicle traffic pollutants and respiratory and cardiovascular health, and whether urban commuters—especially those with asthma—should be viewed as a susceptible sub-population given their enhanced exposures to PM2.5 and gas-phase pollutants.

There is no cost to participants other than their time. The estimated annual burden hours are 180 hours.

Estimated Annualized Burden Hours
Respondents | Instrument type | No. of respondents | No. of responses per respondent | Average burden per respondent (in hours)
Eligible participants | Baseline questionnaire | 40 | 1 | 20/60
| Symptom survey | 40 | 5 | 2/60
| Scripted commute data collection | 40 | 2 | 2

Dated: May 5, 2010.
Maryam I. Daneshvar,
Reports Clearance Officer, Centers for Disease Control and Prevention.

[FR Doc. 2010-11180 Filed 5-10-10; 8:45 am]

BILLING CODE 4163-18-P